DEPARTMENT OF DEFENSE

Department of the Army, Corps of Engineers

Intent To Prepare a Draft Environmental Impact Statement for a Proposed: High Voltage Electrical Transmission Line and Its Associated Infrastructure, Known as Surry-Skiffes Creek-Whealton Aerial Transmission Line “Project”

AGENCY: Department of the Army, U.S. Army Corps of Engineers, DOD.

ACTION: Notice of intent.

SUMMARY: The U.S. Army Corps of Engineers (Corps) will prepare an Environmental Impact Statement (EIS) to evaluate project alternatives and the public interest review factors for the Project which includes 17 in-stream transmission towers and fender protection systems to support a 500kiloVolt (kV) aerial transmission line over navigable waters and placement of 27 transmission towers in non-tidal wetlands. The Project begins in Surry County near Surry Nuclear Power Plant, crosses the James River towards Skiffes Creek in James City County, and continues through Newport News, York County, and Hampton to an existing substation in Whealton. In total, the Project permanently impacts 2712 square feet (0.06 acres) of subaqueous river bottom and 281 square feet (0.006 acres) of non-tidal wetlands, and converts 0.67 acres of palustrine forested non-tidal wetlands to palustrine scrub shrub non-tidal wetlands. The Project is located within the Lower James River and Lynnhaven-Poquoson watersheds; specifically the James River, Skiffes Creek, Lee-Hall Reservoir, Harwood's Mill Reservoir, Woods Creek, Jones Run, Brick Kiln Creek, Newmarket Creek and Whiteman Swamp. Hydrologic Unit Codes 02080206 & 02080108.

DATES: A Public Scoping meeting will be held on July 17, 2019, between the hours of 5:00 p.m.-8:00 p.m.

ADDRESSES: The scoping meeting will be held at the Doubletree by Hilton Williamsburg located at 50 Kingsmill Road, Williamsburg, Virginia 23185.

FOR FURTHER INFORMATION CONTACT: Questions about the proposed action and the Draft Environmental Impact Statement (DEIS) can be answered by: Randy Steffey, U.S. Army Corps of Engineers, Norfolk District, 803 Front Street, Norfolk, VA 23510, (757) 201-7579 or randy.l.steffey@usace.army.mil. More information about the project can be found at the following website: https://www.nao.usace.army.mil/Missions/Regulatory/SkiffesCreekPowerLine.aspx.

SUPPLEMENTARY INFORMATION: 1. Proposed Action: Virginia Electric and Power Company (Dominion) has proposed an electrical transmission powerline and associated infrastructure, known as Surry-Skiffes Creek-Whealton project. The proposed project involves a 7.76-mile 500 kV overhead transmission powerline from Surry nuclear power plant to the proposed Skiffes Creek 500 kV-230 kV-115 kV switching station, on 51 acres of private and commercial property in James City County, and 20.2 miles of 230 kV overhead powerline along an existing right of way from the switching station to Whealton substation in Hampton. In July 2017, the Corps issued an Individual Permit for the Project under Section 404 of the Clean Water Act (33 U.S.C. 1344) and Section 10 of the Rivers and Harbors Act of 1899 (33 U.S.C. 403), as well as a permission letter under RHA Section 408. As part of its review process, the Corps prepared an environmental assessment (EA), which is available at the Corps' project website (https://www.nao.usace.army.mil/Missions/Regulatory/SkiffesCreekPowerLine.aspx). Among other conditions, the permit was issued subject to compliance with a 2017 Memorandum of Agreement (MOA) executed by the Corps; Dominion; and the Acting Assistant Secretary of the Interior for Fish, Wildlife, and Parks (on behalf of the National Park Service (NPS)), among other parties. The MOA, developed through the National Historic Preservation Act Section 106 consultation process, contained stipulations to avoid, minimize, and mitigate impacts to the historic properties in proximity to the proposed project. Dominion proceeded with construction of the project pursuant to the Corps permit and its conditions, including the conditions set forth in the MOA. The Corps permit was challenged in the U.S. District Court for the District of Columbia, which awarded summary judgment to the Corps and upheld the permit decision. That decision was appealed. In National Parks Conservation Association v. Semonite, No. 18-5179, the United States Court of Appeals for the District of Columbia Circuit remanded this action to the district court with instructions to direct the Corps to prepare an EIS pursuant to the National Environmental Policy Act (NEPA). Consistent with the court's decision, Dominion seeks authorization from the Corps for the original proposed project whose construction is approximately 99 percent complete and scheduled for completion by October 2019. On February 26, 2019, Dominion Energy electrically energized the Project.

2. Alternatives: Alternatives subject to consideration include, but will not be limited to:

a. No action alternative.

b. Implementation of demand-side management practices.

c. Operate all units at Yorktown using co-firing fuels (i.e., natural gas and oil, but no coal).

d. Decommission Yorktown Units 1 and 2.

e. 230 kV Line #214/263 rebuild at the James River Bridge crossing.

f. Chuckatuck—Newport News 230 kV line.

g. Chickahominy—Lenexa 500 kV.

h. Save the James Alliance Alt Solution (Close Yorktown Unit 1, operate Yorktown Unit 2, construct a submarine 230 kV line across the James River, and construct future generation facilities).

i. Surry—Skiffes Underwater 230 kV single circuit line (standalone).

j. Surry—Skiffes Underwater 230 kV double circuit line (standalone).

k. 230 kV phase angle regulating transformer.

l. Surry—Skiffes Underwater 345 kV line.

m. National Trust for Historic Preservation (NHTP)/Tabors Caramanis Rudkevich (TCR) Alternative A (Enable Yorktown Unit 3 to operate continuously as a synchronous condenser, reconductor and reconfigure a number of existing transmission lines).

n. NTHP/TCR Alternative B (Use Yorktown Unit 3 only during summer peak loads).

o. NTHP/TCR Alternative C (Convert Yorktown Unit 3 to run as a continuous synchronous condenser and only use a standby generation supply under summer peak conditions upon the occurrence of a critical single-element contingency).

p. NTHP/TCR Alternative D (Tap into existing 230 kV transmission lines, build new 230 kV transmission lines, reconductor existing transmission lines, enable Yorktown Unit 3 to run as a continuous synchronous condenser, and reconfigure transmission delivery during summer peak conditions).

q. Chickahominy Generation (Utilize two natural gas plants projected in Charles City County).

r. New Generation (such as combined-cycle, combustion turbine, coal generation, biomass, wind, or solar).

s. Retrofit Yorktown Power Station.

t. 230 kV Line #214/263 Rebuild at the James River Bridge crossing with additional facilities.

u. Surry—Whealton 500 kV Line overhead.

v. Chickahominy—Skiffes Creek 500 kV line.

w. Surry—Skiffes Creek 500 kV line overhead (Dominion's Proposed Project).

x. High Tension Low Sag Conductors on the Proposed Project.

y. Surry—Skiffes Creek 500 kV underwater line (high voltage direct current).

z. Surry—Skiffes Creek 500 kV underwater line (alternating current).

aa. Surry—Fort Eustis underwater double circuit 230 kV line.

bb. Hybrid alternatives including several combinations of retrofitting, repowering, and retiring with transmission construction.

3. Scoping Process: The Corps has determined that the provisions of Executive Order 13807 (“One Federal Decision”) apply to this project. One Federal Decision is intended to streamline federal permitting processes, including environmental reviews and authorization decisions, for major infrastructure projects. In accordance with 40 CFR 1501 and the Council on Environmental Quality (CEQ) guidance, the Corps has identified NOAA Fisheries and the United States Fish and Wildlife Service as having authorization decision responsibilities in this action and therefore has invited them to be cooperating agencies in the preparation of the EIS. Additionally, the Corps has invited the Advisory Council on Historic Preservation, Environmental Protection Agency, Federal Aviation Administration, Federal Energy Regulatory Commission, National Park Service, and United States Coast Guard as having special expertise important in the review of this action and therefore has invited them to serve as cooperating agencies in the EIS. As the lead federal agency, the Corps will also coordinate with the public and other state and local agencies and Tribes in order to evaluate the range of actions, alternatives, direct, indirect, and cumulative impacts of the proposed project. The significant issues identified thus far include potential impacts, due to the proximity of the proposed project, to historic properties.

4. Public Scoping Meeting: This notice serves to inform the public that a Public Scoping meeting will be held on July 17, 2019, between 5:00 p.m.-8:00 p.m., at the Doubletree by Hilton Williamsburg located at 50 Kingsmill Road, Williamsburg, Virginia 23185. The Corps will use the comments received to assist in identifying the significant issues, which should be addressed in the DEIS. Attendance at the public meeting is not necessary to provide comments. Written comments may also be given to the contact listed under FOR FURTHER INFORMATION CONTACT.

5. DEIS Availability: The Corps estimates that the DEIS will be available to the public for review and comment around the November 2019.

Dated: June 14, 2019.
William T. Walker,
Chief, Regulatory Branch.

[FR Doc. 2019-13229 Filed 6-20-19; 8:45 am]

BILLING CODE 3720-58-P